DEPARTMENT OF DEFENSE

Department of the Army

Proposed Collection; Comment Request

AGENCY: Deputy Chief of Staff for Personnel (DAPE-ZXI-RM), DoD.

ACTION: Notice.

In compliance with Section 3506(c)(2)(A) of the Paperwork Reduction Act of 1995, the Department of the Army announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by October 29, 2001.

ADDRESSES: Written comments and recommendations on the proposed information collection should be sent to Department of the Army, Military Traffic Management Command, 200 Stovall Street, Alexandria, Virginia 22332-5000, ATTN: MTPP-HR (Alfredo R. Escobar). Consideration will be given to all comments received within 60 days of the date of publication of this notice.

FOR FURTHER INFORMATION CONTACT: To request more information on this proposed information collection or to obtain a copy of the proposal and associated collection instruments, please write to the above address, or call Department of the Army Reports Clearance Officer at (703) 614-0454.

Title, Associated Form, and OMB Number: Uniform Tender of Rates and/or charges for Domestic Transportation Services (DOD/USCG Sponsored HHG) MTHQ Form 43-R, OMB Control Number 0702-0018.

Needs and uses: DoD approved household goods carriers file voluntary rates to engage in the movement of DoD and USCG sponsored shipments within CONUS. HQMTMC evaluates the rates and awards the traffic to low rate responsible carriers whose rates are responsive and most advantageous to the government. The low rate carrier is offered 50% of the traffic at an installation and carriers that meet this rate share in the remaining 50%.

Affected Public: Business or Other For-Profit.

Annual Burden Hours: 3,160.

Number of Respondents: 1,580.

Responses per Respondent: 1.

Average Burden per Response: 30 minutes.

Frequency: Required to Obtain or Retain Benefits.

SUPPLEMENTARY INFORMATION: The MT-HQ Form 43-R is used by intrastate household goods carriers to file rates semi-annually, 1 May—31 October, and 1 November—30 April. Intrastate household goods carriers are required to submit an original and two copies of each rate tender. The original copy is retained at Headquarters, the second copy is furnished to the General Services Administration, and the third is mailed back to the carriers with the official “ACCEPTED” stamp.

Luz D. Ortiz,
Army Federal Register Liaison Officer.

[FR Doc. 01-21693 Filed 8-27-01; 8:45 am]

BILLING CODE 3710-08-M